SECURITIES AND EXCHANGE COMMISSION

[File No. 500-1]

In the Matter of Wade Cook Financial Corp., Warning Management Services, Inc., Weldotron Corp., Western Microwave, Inc., Wickes, Inc., Worldwide Technologies, Inc., and Worldwide Xceed Group, Inc. (n/k/a Liquidating WXG, Inc.); Order of Suspension of Trading

May 6, 2009.

It appears to the Securities and Exchange Commission that there is a lack of current and accurate information concerning the securities of Wade Cook Financial Corp. because it has not filed any periodic reports since the period ended September 30, 2002.

It appears to the Securities and Exchange Commission that there is a lack of current and accurate information concerning the securities of Warning Management Services, Inc. because it has not filed any periodic reports since the period ended December 31, 2004.

It appears to the Securities and Exchange Commission that there is a lack of current and accurate information concerning the securities of Weldotron Corp. because it has not filed any periodic reports since February 28, 1998.

It appears to the Securities and Exchange Commission that there is a lack of current and accurate information concerning the securities of Western Microwave, Inc. because it has not filed any periodic reports since the period ended March 31, 1997.

It appears to the Securities and Exchange Commission that there is a lack of current and accurate information concerning the securities of Wickes, Inc. because it has not filed any periodic reports since the period ended June 28, 2003.

It appears to the Securities and Exchange Commission that there is a lack of current and accurate information concerning the securities of Worldwide Technologies, Inc. because it has not filed any periodic reports since the period ended June 30, 2002.

It appears to the Securities and Exchange Commission that there is a lack of current and accurate information concerning the securities of Worldwide Xceed Group, Inc. (n/k/a Liquidating WXG, Inc.) because it has not filed any periodic reports since the period ended February 28, 2001.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 6, 2009, through 11:59 p.m. EDT on May 19, 2009.

By the Commission.
Elizabeth M. Murphy,
Secretary.

[FR Doc. E9-10933 Filed 5-6-09; 4:15 pm]

BILLING CODE 8010-01-P